ENVIRONMENTAL PROTECTION AGENCY

[FRL-8315-6]

Clean Air Act Operating Permit Program; Petition To Object to Title V Permits for Potlatch Corporation's Clearwater Wood Products Facility, Idaho Pulp and Paperboard Division, and Consumer Products Division, Lewiston, ID

AGENCY: Environmental Protection Agency (EPA).

ACTION: Notice of final order on petition to object to state operating permits

SUMMARY: Pursuant to Clean Air Act (CAA) section 505(b)(2) and 40 CFR 70.8(d), the EPA Administrator signed an order dated May 7, 2007, denying a petition to object to state operating permits issued by the Idaho Department of Environmental Quality to Potlatch Corporation's Clearwater Wood Products Facility, Idaho Pulp and Paperboard Division, and Consumer Products Division, all located in Lewiston, Idaho (Potlatch permits). This order constitutes final action on the petition submitted by Mr. Mark Solomon, representing the Idaho Conservation League, Friends of the Clearwater, and himself, on February 7, 2003, requesting that EPA object to the issuance of the Potlatch permits. Pursuant to section 505(b)(2) of the CAA, any person may seek judicial review in the United States Court of Appeals for the appropriate circuit within 60 days of this notice under section 307 of the CAA.

ADDRESSES: Copies of the final order, the petition, and all pertinent information relating thereto are on file at the following location: Environmental Protection Agency, Region 10, Office of Air, Waste, and Toxics (AWT-107), 1200 Sixth Avenue, Seattle, Washington 98101. The final order is also available electronically at the following Web site: http://www.epa.gov/region07/programs/artd/air/title5/petitiondb/petitiondb.htm.

FOR FURTHER INFORMATION CONTACT: Doug Hardesty, Office of Air, Waste and Toxics, EPA Region 10, telephone (208) 378-5759, e-mail hardesty.doug@epa.gov.

SUPPLEMENTARY INFORMATION: The Clean Air Act affords EPA a 45-day period to review and object to, as appropriate, operating permits proposed by state permitting authorities. Section 505(b)(2) of the CAA authorizes any person to petition the EPA Administrator within 60 days after the expiration of this review period to object to a state operating permit if EPA has not done so. Petitions must be based only on objections to the permit that were raised with reasonable specificity during the public comment period provided by the state, unless the petitioner demonstrates that it was impracticable to raise these issues during the comment period or that the grounds for the objection or other issue arose after the comment period.

On February 7, 2003, EPA received a petition from Mr. Mark Solomon, representing the Idaho Conservation League, Friends of the Clearwater, and himself, requesting that EPA object to the issuance of the Potlatch permits. The petition alleged that: (1) The three Potlatch divisions should be covered by a single Title V operating permit; and (2) IDEQ used the wrong model in determining the ambient air quality impacts of the Potlatch facilities. The order explains the reasons behind EPA's decision to deny the petition for objection on all grounds.

Ronald Kreizenbeck,
Deputy Regional Administrator, Region 10.

[FR Doc. 07-2439 Filed 5-16-07; 8:45 am]

BILLING CODE 6560-50-M